DEPARTMENT OF VETERANS AFFAIRS

Veterans' Advisory Committee on Rehabilitation, Amended Notice of Meeting

The Department of Veterans Affairs (VA) gives notice under the Federal Advisory Committee Act, 5 U.S.C. Ch. 10., that a meeting for the Veterans' Advisory Committee on Rehabilitation (hereinafter the Committee) will be held virtually on Tuesday and Wednesday, August 26-27, 2025. The meeting will begin at 11:00 a.m. EST and adjourn at 3:30 p.m. EST on both days. The meeting is open to the public.

The purpose of the Committee is to advise the Secretary of Veterans Affairs on the rehabilitation needs of Veterans with disabilities and the administration of VA's rehabilitation programs.

On August 26-27, 2025, the Committee will receive briefings on various VA programs designed to enhance the rehabilitative potential of Veterans with disabilities. In addition, the Committee will discuss and explore potential recommendations to be included in the next annual report.

Members of the public may attend virtually using the following Microsoft Teams link by computer or mobile app at https://teams.microsoft.com/l/meetup-join/19%3ameeting_ZmQ4NDMwMzktODc1NC00NmRiLTlhYjMtYTA0ODhjM2JjZDg0%40thread.v2/0?context=%7b%22Tid%22%3a%22e95f1b23-abaf-45ee-821d-b7ab251ab3bf%22%2c%22Oid%22%3a%22fe5d9e91-e299-4a08-bad7-e86176037a15%22%7d. The Meeting ID: 255 610 714 349 5 and Passcode: W2r7qK34. You can also join by phone: 1-872-701-0185. Phone Conference ID: 110 964 502#.

As time is limited, individuals wishing to make public comments can contact VACOR.VBACO@va.gov. in advance to reserve time during the public comment period or submit written comments (max. 2 pages).

Members of the public may submit written statements (max. 2 pages) until Friday, August 22, 2025, for the Committee's review to Ms. Latrese Thompson, Designated Federal Officer, Veterans Benefits Administration (28), 1800 G Street NW, Washington, DC 20006, or at VACOR.VBACO@va.gov. In the communication, writers must identify themselves and state the organization, association, or person(s) they represent. The meeting will also include time reserved for public comments before the meeting closes. Each public comment speaker will be held to a 3-5-minute limit, or as time permits. Individuals wishing to seek additional information should contact Ms. Latrese Thompson, Designated Federal Officer, at VACOR.VBACO@va.gov.

Dated: July 25, 2025.
LaTonya L. Small,
Federal Advisory Committee Management Officer.

[FR Doc. 2025-14319 Filed 7-28-25; 8:45 am]

BILLING CODE 8320-01-P